DEPARTMENT OF TRANSPORTATION

Federal Highway Administration

Notice of Final Federal Agency Actions on Proposed Highway Project in Michigan

AGENCY: Federal Highway Administration (FHWA), Department of Transportation (DOT).

ACTION: Notice of limitation on claims for judicial review of actions by FHWA and other federal agencies.

SUMMARY: This notice announces actions taken by FHWA and other Federal agencies that are final. These final agency actions relate to a proposed highway project, I-375, from I-75 South of Mack Avenue to the Detroit Riverfront in the city of Detroit, Wayne County, State of Michigan. The actions issue National Environmental Policy Act (NEPA) and Section 4(f) of the U.S. Department of Transportation Act of 1966 (Section 4(f)) decisions relating to the I-375 improvement project. FHWA's Finding of No Significant Impact (FONSI) provides details on the Selected Alternative for proposed improvements.

DATES: By this notice, FHWA is advising the public of final agency actions subject to 23 U.S.C. 139(l)(1). A claim seeking judicial review of the Federal agency action on the highway project will be barred unless the claim is filed on or before August 19, 2022. If the Federal law that authorizes judicial review of a claim provides a time period of less than 150 days for filing such claim, then the shorter time period applies.

FOR FURTHER INFORMATION CONTACT: For FHWA: Mark Dionise, Engineering and Operations Director, FHWA Michigan Division, 315 Allegan, Room 201, Lansing, MI 48933, Telephone: (517) 702-1842, email: Mark.Dionise@dot.gov. The FHWA Michigan Division Office's normal business hours are 8:00 a.m. to 4:30 p.m. (Eastern Standard Time). For the Michigan Department of Transportation (MDOT): Jonathan Loree, P.E., Senior Project Manager, Michigan Department of Transportation, P.O. Box 30050, 425 W Ottawa Street, Lansing, MI 48909, Telephone: (313) 967-5420, email: LoreeJ@michigan.gov. The Michigan Department of Transportation's normal business hours are 8:00 a.m. to 5:00 p.m. (Eastern Standard Time).

SUPPLEMENTARY INFORMATION: Notice is hereby given that FHWA has taken final agency action by issuing a Finding of No Significant Impact (FONSI) for the following highway project in the State of Michigan: I-375 Improvement Project in Wayne County. Improvements include reconstruction of the I-75/I-375 interchange and construction of a direct connection to the Detroit Riverfront in the city of Detroit, Michigan between I-75 South of Mack Avenue and the Detroit Riverfront. The project will de-designate I-375 as an interstate highway and re-designate it as a state route. Improvements include removing the existing freeway and replacing it with a new boulevard aligned along the west side of the I-375 corridor. Gratiot Avenue and the new boulevard will intersect at-grade. Access to I-75 will be available via a new interchange north of Gratiot Avenue connecting Detroit's central business district, Eastern Market and other destinations in the vicinity. The project is included in the Southeast Michigan Council of Governments' (SEMCOG) 2045 Regional Transportation Plan for Southeast Michigan. Design and Right-of-Way (ROW) of the project is also included in SEMCOG's Fiscal Year 2020-2023 Transportation Improvement Program.

FHWA's action, related actions by other Federal agencies, and the laws under which such actions were taken, are described in the FONSI for the project, approved on March 7, 2022, and in other documents in the project file. The FONSI is available for review by contacting FHWA or MDOT at the addresses provided above. These documents are also available for viewing and download from the project website at: https://www.michigan.gov/mdot/0,4616,7-151-9621_11058_75084---,00.html.

This notice applies to all Federal agency decisions on each project as of the issuance date of this notice and all laws under which such actions were taken. This notice does not, however, alter or extend the limitation period of 150 days for challenges to final agency actions subject to previous notices published in the Federal Register.

The laws under which such actions were taken, include but are not limited to:

1. General: National Environmental Policy Act (NEPA) [42 U.S.C. 4321-4351]; Federal-Aid Highway Act [23 U.S.C. 109 and 23 U.S.C. 128]; E.O. 11514 Protection and Enhancement of Environmental Quality.

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act (ESA) [16 U.S.C. 1531-1544 and Section 1536]; Marine Mammal Protection Act [16 U.S.C. 1361]; Anadromous Fish Conservation Act [16 U.S.C. 757(a)-757(g)], Fish and Wildlife Coordination Act [16 U.S.C. 661-667d]; Migratory Bird Treaty Act [16 U.S.C. 703-712], Magnuson-Stevenson Fishery Conservation and Management Act of 1976, as amended [16 U.S.C. 1801 et seq.]; E.O. 13112 Invasive Species.

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469c]; Native American Grave Protection and Repatriation Act (NAGPRA) [25 U.S.C. 3001-3013]; E.O. 11593 Protection and Enhancement of Cultural Resources; E.O. 13007 Indian Sacred Sites; E.O. 13287 Preserve America; E.O. 13175 Consultation and Coordination with Indian Tribal Governments.

6. Social and Economic: Civil Rights Act of 1964 [42 U.S.C. 2000(d)-2000(d)(1)]; American Indian Religious Freedom Act [42 U.S.C. 1996]; Farmland Protection Policy Act (FPPA) [7 U.S.C. 4201-4209]; E.O. 12898, Federal Actions to Address Environmental Justice in Minority Populations and Low Income Populations.

7. Wetlands and Water Resources: Clean Water Act (Section 404, Section 401, Section 319) [33 U.S.C. 1251-1377]; Coastal Barrier Resources Act [16 U.S.C. 3501-3510]; Coastal Zone Management Act [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act, [16 U.S.C. 3921, 3931]; TEA-21 Wetlands Mitigation [23 U.S.C. 103(b)(6)(M, 133(b)(11)]; Flood Disaster Protection Act [42 U.S.C. 4001-4128]; E.O. 11990 Protection of Wetlands; E.O. 11988 Floodplain Management.

8. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

(Catalog of Federal Domestic Assistance Program Number 20.205, Highway Planning and Construction. The regulations implementing Executive Order 12372 regarding intergovernmental consultation on Federal programs and activities apply to this program.)

(Authority: 23 U.S.C. 139 (l)(1))

Theodore G. Burch,
Division Administrator, Lansing, Michigan.

[FR Doc. 2022-05993 Filed 3-21-22; 8:45 am]

BILLING CODE 4910-22-P